DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2014 Census Test.

OMB Control Number: None.

Form Number(s): The two basic forms to be tested are DC-1A and DC-1B. Numerous other documents such as letters, postcards, and call-back cards will be utilized in the test but are too numerous to list here.

Type of Request: New collection.

Burden Hours: 31,750.

Number of Respondents: 190,500.

Average Hours per Response: 10 minutes.

Needs and Uses: During the years preceding the 2020 Census, the Census Bureau will pursue its commitment to reducing the cost of conducting the next decennial census, while striving to maintain the level of quality it achieved for previous ones. A primary decennial census cost driver is the collection of data from members of the public for which the Census Bureau received no reply via initially offered response options. Increasing the number of people who take advantage of self-response options (such as completing a paper questionnaire and mailing it back to the Census Bureau) can contribute to a less costly census with high-quality results. An overall objective of the Census Bureau is to increase self-response in the decennial census by making it easier to respond to the population and housing unit count. The Census Bureau has committed to using the Internet as a primary response option in the 2020 Census. We need to study ways to promote the Internet as a self-response option for the 2020 Census; identify methods to communicate directly with respondents to alert them about the census data collection timeframe; provide each household a specific identification number to allow them to self-respond via the Internet; and allow options such as telephone questionnaire assistance to ensure respondents are comfortable with the use of this new data collection alternative.

The 2014 Census Test (formerly known as the 2014 Census Site Test) will allow the Census Bureau to study a variety of new methods and advanced technologies that are under consideration for the 2020 Census. To improve self-response, the Census Bureau plans to test new contact and notification strategies such as allowing respondents to pre-register their email address, cell phone number (for texting capabilities), mailing address, and physical location, and provide a preference for a contact strategy of either email or text. Furthermore, participants will have the option of responding to the test via multiple response modes including the Internet, paper questionnaires, and telephone interviews. Nonrespondents will be followed up via telephone and personal visit interviews using Computer Assisted Telephone Interviews (CATI) and Computer Assisted Personal Interview (CAPI) automated instruments. The Census Bureau plans to examine the following nonresponse followup (NRFU) design and implementation alternatives:

• Using administrative supported with commercial vendor data;

• varying the number of field followup contact attempts either in a prescribed fashion or applying an adaptive design (AD) approach to choose contact strategies on a housing unit basis. Frame data, paradata, administrative records supported with commercial vendor data, and cost data are used to prioritize cases and determine their contact types and stopping rules;

• changing the rules for when an enumerator can collect data from a proxy respondent; and

• collecting data for nonrespondents with automated devices such as tablets and smartphones.

In addition, the 2014 Census Test provides an opportunity for the Census Bureau to test potential enhancements to its automated processing of responses lacking a pre-assigned Census identification (ID) number. When a respondent does not provide their unique Census ID number on their questionnaire, any address data supplied by him or her must undergo Non-ID Processing. Non-ID Processing is a comparison of respondent-provided addresses to the Census Bureau's national inventory of living quarters addresses.

The 2014 Census Test will be conducted in a single geographic area in Washington, DC and Montgomery County, MD. This test will include contacting up to 190,500 housing units. For these addresses, the testing includes an initial self-response phase followed by a nonresponse followup (NRFU) phase for no more than 50,000 non-responding housing units. Furthermore, 250 of these 50,000 housing units will fall into Bring Your Own Device Testing, which is where the Census Bureau will experiment with using employee-owned, commercial smartphones to conduct NRFU. The households in NRFU are a sample of those who have failed to self-respond to the 2014 Census Test by a certain deadline. A Census Bureau employee will visit or phone these households to attempt to collect their questionnaire data. The number of personal visits or telephone call attempts to collect the data from nonrespondents will vary, based on alternative methods being tested.

For the self-response phase of the test, the Census Bureau will randomly assign sampled housing units to one of eight different contact and enumeration strategies. Each strategy aims to increase the use of self-response enumeration in a decennial census. Sampled housing units will initially receive a letter or a postcard containing instructions about how to respond to the test online using a unique Census ID provided by the Census Bureau. Some households will receive a notice that allows them to pre-register for the Census and to notify the Census Bureau of their communication preference (that is, email or text). The telephone questionnaire assistance option will be available to all households. Respondents can respond by going to the Internet site or contacting the telephone questionnaire assistance center. For those participants who have not responded by late June, the Census Bureau will contact them with a final postcard reminder and then a paper questionnaire by mail, if necessary, on or around July 15.

The geographic area for the 2014 Census Test contains two strata within Washington, DC and Montgomery County, MD: One stratum is more likely to respond while the other is less likely to respond. Each of the contact and enumeration strategies will be tested in both strata. The difference in characteristics in the two strata will allow the Census Bureau to gather a variety of cost data associated with mileage and hours spent traveling to housing units and interviewing respondents. In addition, Time and Motion studies will be conducted to determine if/how we can produce efficiencies in the NRFU data collection operation.

The 2014 Census Test will look to modify the 2010 NRFU operation to increase efficiency and to reduce costs. One difference from procedures in the 2010 Census will be that telephone numbers will be provided to enumerators (when possible) with their case assignment. These numbers will come from a supplemental contact frame developed from commercial data sources. A second difference is that data will be collected on automated enumeration devices, whereas the 2010 Census NRFU data were collected on paper questionnaires. Another difference is that the “notice of visit” left at the door when a respondent is not home will contain information on how a respondent can self-respond via the Internet or by calling the Census Bureau's telephone questionnaire assistance line. The intent of this feature is to reduce the number of return visits by encouraging respondents to complete their questionnaires online or by telephone.

For the 2014 Census Test, the Census Bureau will test the use of an automated enumeration device or instrument in field operations. The enumeration device, called the Census Operations Mobile Platform for Adaptive Services and Solutions (COMPASS), is a new development effort with the goal of replacing paper-based data collection methods historically used in decennial operations such as NRFU. The plan is that the COMPASS instrument will be able to be loaded on consumer-grade devices, such as iPhones and iPads. The test will help inform:

• The feasibility of conducting a field operation with the use of consumer grade devices (for example, iPhones and iPads).

• The feasibility of replacing traditional paper maps from the Census Bureau's TIGER System with Google Maps for locating housing units for enumeration activities.

• The feasibility of collecting GPS coordinates with the COMPASS instrument.

In addition, the Census Bureau will experiment with using employee-owned, commercial smartphones to conduct NRFU. Employee-owned equipment/services are commonly referred to as Bring Your Own Device or BYOD. A separate sample of 250 households will be contacted at the end of the NRFU field operation to test the BYOD alternative against the COMPASS instrument, Google maps, and other systems being used for the test.

The objectives of this additional study are as follows:

—Design, develop, deploy, and support software solutions and processes that run on commercially available employee-owned mobile devices (that is, iPhone).

—Deploy and support secure software solutions that can be installed on commercially available employee-owned mobile devices.

—Conduct interviews with respondents using employee-owned mobile devices.

—Capture lessons learned.

Content Testing

The 2014 Census Test questionnaire will include questions on housing tenure, household roster, age, date of birth, race and Hispanic origin, and relationship. The 2014 Census Test will include testing of a combined race and Hispanic origin question that is similar to one used in the 2012 National Census Test. Based on results from the 2010 Race and Hispanic Origin Alternative Questionnaire Experiment (Compton, et. al. 2012), the 2014 Census Test provides an opportunity to further test the “streamlined” version of a combined race and Hispanic origin question. This modified version of the combined question removes the term “Negro” from the “Black or African Am.” checkbox and provides a shortened list of examples for the “Hispanic, Latino, or Spanish origin,” “Asian,” and “Native Hawaiian or Other Pacific Islander” checkbox categories. This combined question provides examples and write-in areas for each major response category. Respondents are asked to self-identify themselves by selecting one or more checkboxes and reporting a specific origin for each checkbox selected. The 2014 Census Test will involve testing two versions of a combined race and Hispanic origin question against separate race and Hispanic origin questions in the Internet data collection; and testing a single version of the combined question on the paper questionnaire and in the COMPASS.

For the relationship question, the 2014 Census Test will involve the testing of new response categories for opposite sex and same sex husband/wife/spouse and unmarried partner. In Internet data collection and on the paper questionnaire, two versions of the relationship question will be tested against each other: the traditional version and the new version with response options both opposite sex and same sex husband/wife/spouse and unmarried partner. The COMPASS will use the new version.

The results of the 2014 Census Test will guide the design of additional 2020 Census testing later this decade. Testing in 2014 is necessary to establish recommendations for contact strategies, response options, and field operation efficiencies that can be further refined and tested in later mid-decade tests. At this point in the decade, the Census Bureau needs to acquire evidence showing whether the strategies being tested can reduce the costs of a decennial census, while maintaining the quality of the census data.

The response rates to paper and Internet have “practical utility,” i.e., the information will be used for a practical and necessary 2020 Decennial program planning and determination of metrics. The use of several software and operating systems for field data collection has “practical utility” for the 2020 Decennial program planning and determination of options for software deployment. Several demographic questions and coverage probes are included to contribute to other recent testing opportunities to achieve optimal coverage for decennial censuses and surveys.

In the geographically restricted test areas where the Census Bureau will conduct NRFU, the 2014 Census Test is designed to collect information to (1) research the cost and quality impacts of differing NRFU contact strategies, and (2) test the use and functionality of mobile computing devices by the field staff. Research on the alternative NRFU respondent contact strategies will be conducted to discern if differing instructions to enumerators on the number of contact attempts they should make leads to improved cost and productivity measures. Both fixed and adaptive design alternatives for contact strategies will be tested and compared. For the fixed panels, all NRFU cases will get two personal visit attempts with one telephone contact attempt in between for households where telephone numbers are available and provided to the enumerator. For the adaptive design panels an adaptive design model will indicate to the enumerator which cases are the highest priority to attempt on the current day, using information particular to the specific cases. Results from both of these alternative strategies will be compared to a control panel that will conduct NRFU operations similar to what was done in the 2010 Census. The testing will also obtain detailed data on the use of telephone contacts by enumerators (including the occurrence of inbound telephone calls to the TQA centers) and data on when and how enumerators use proxy respondents. Another major piece of the test is to introduce the use of mobile computing devices and IT processes in field operations to determine if/how these may produce efficiencies in data collection.

The specific goal for the Non-ID Processing research is to evaluate enhancements to the Census Bureau's process to collect address information and for matching and geocoding Non-ID responses via batch processing. Testing enhancements to Non-ID processing early in the decade will inform early planning for the 2020 Census design, as well as the infrastructure required to support large-scale processing of electronic Non-ID response data submitted via the Internet or a Census-provided questionnaire application designed for mobile devices.

The data collected from households and individuals during the 2014 Census Test will be used to research and evaluate new methodologies and systems to plan the 2020 Census. The Census Bureau will not publish any tabulations or population estimates from the substantive results from this test. However, methodological papers may be written that include tallies of response characteristics or problems identified, and responses may be used to inform future research studies building upon the results of these tests.

Affected Public: Individuals or households.

Frequency: One time.

Respondent's Obligation: Mandatory.

Legal Authority: Title 13, United States Code, Sections 141 and 193.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: March 26, 2014.
Glenna Mickelson,
Management Analyst, Office of the Chief Information Officer.

[FR Doc. 2014-07061 Filed 3-28-14; 8:45 am]

BILLING CODE 3510-07-P